DEPARTMENT OF LABOR

Employment and Training Administration

[TA-W-58,125]

S. Lichtenberg and Company Inc., Samsons Mfg. Division Waynesboro, GA; Notice of Termination of Investigation

Pursuant to section 221 of the Trade Act of 1974, as amended, an investigation was initiated on October 13, 2005 in response to a petition filed by a company official on behalf of workers at S. Lichtenberg and Company Inc., Samsons Mfg. Division, Waynesboro, Georgia. The workers are engaged in the production of curtains and drapes.

The Department has determined that the petitioning group of workers is covered by an active certification, TA-W-53,381A which expires on December 4, 2005. Consequently, further investigation in this case would serve no purpose, and the investigation has been terminated.

Signed in Washington, D.C., this 20th day of October, 2005.
Linda G. Poole,
Certifying Officer, Division of Trade Adjustment Assistance.

[FR Doc. 05-22329 Filed 11-8-05; 8:45 am]

BILLING CODE 4510-30-P